DEPARTMENT OF TRANSPORTATION

Federal Highway Administration

Environmental Impact Statement: Kern County, CA

AGENCY: Federal Highway Administration (FHWA), DOT.

ACTION: Notice of Intent.

SUMMARY: The FHWA, on behalf of the California Department of Transportation (Caltrans), is issuing this notice to advise the public that an Environmental Impact Statement (EIS) will be prepared for the proposed Centennial Corridor highway project in Kern County, California.

FOR FURTHER INFORMATION CONTACT: Sarah Gassner, Senior Environmental Planner, Southern Sierra Environmental Analysis Branch, Caltrans, 2015 E. Shields Avenue, Suite 100, Fresno, California 93726 or call (559) 243-8243.

SUPPLEMENTARY INFORMATION: Effective July 1, 2007, the FHWA assigned, and Caltrans assumed, environmental responsibilities for this project pursuant to 23 U.S.C. 327. Caltrans as the delegated National Environmental Policy Act (NEPA) agency will prepare an EIS on a route adoption study to extend State Route 58 westerly to connect to Interstate 5, in Kern County, California. In addition, this EIS would provide environmental compliance documentation for construction of the project from State Route 58 to Heath Road. For purposes of the EIS, the project, known as the Centennial Corridor, is being evaluated in three segments. Two of the segments, from Interstate 5 to Heath Road and from Heath Road to Mohawk Street (Westside Parkway), have been the subject of previous NEPA documents. This EIS will incorporate by reference the previous documents: Final Route 58 Route Adoption Project, A Tier 1 Environmental Impact Statement/Environmental Impact Report (Tier 1 EIS/EIR) (2002) and the Westside Parkway Environmental Assessment/Final Environmental Impact Report (EA/FEIR) (2006). This EIS will serve as a revalidation of the previous analysis.

The final segment of the Centennial Corridor, from Mohawk Street to State Route 58, will be evaluated at a construction level of analysis and will address multiple alternatives. Alternative alignments currently being evaluated include options west of State Route 99, east of State Route 99, and parallel to State Route 99, as well as a “No Build” alternative, a transit alternative, and a transportation systems management alternative. All of the build alternative alignments would connect State Route 58 to the east end of the Westside Parkway project. Caltrans will continue to screen the alternatives identified through the scoping process and only carry forward those alternatives that are considered viable for evaluation in the EIS. The following alternatives are currently under consideration: Alternative A proposes to construct a new freeway west of the State Route 58/99 interchange. The alignment would travel in a westerly direction for approximately one mile on the south side of Stockdale Highway, at which point it would turn in a northwesterly direction and span the Carrier Canal, Truxtun Avenue, and the Kern River. The proposed route would then connect to the Westside Parkway alignment between Mohawk Street and Coffee Road. The total length of the project from the existing State Route 99/State Route 58 interchange to Interstate 5 utilizing Alternative A would be approximately 16.31 miles.

Alternative B proposes to construct a new freeway west of the State Route 58/99 interchange. The alignment would travel in a westerly direction for approximately one-half mile on the south side of Stockdale Highway, at which point it would turn to the northwest, span the Carrier Canal, Truxtun Avenue, and the Kern River. Alternative B would connect to the Westside Parkway alignment at the Mohawk Street interchange. The total length of the project from the existing State Route 99/State Route 58 interchange to Interstate 5 utilizing Alternative B is approximately 16.61 miles.

Alternative C proposes to connect existing State Route 58 to the Westside Parkway by means of routing new lanes adjacent and parallel to existing State Route 99. These additional lanes would run parallel to and independent of State Route 99. Movements between State Route 58, State Route 99 and the Westside Parkway would likely be facilitated by braided ramps and freeway-to-freeway connector ramps. The total length of the project from State Route 99 to Interstate 5 utilizing Alternative C is approximately 18.51 miles.

Alternative D proposes to construct a new freeway in the vicinity of Union Avenue (State Route 204). The roadway would extend north from State Route 58 for approximately one mile, where it would turn to the west and run parallel to the Burlington Northern Santa Fe railroad tracks. Alternative D would connect to the Westside Parkway alignment at the new interchange at Mohawk Street. The total length of the project from State Route 58 at Union Avenue to Interstate 5 is approximately 18.98 miles.

The “No Build” alternative, would not construct any improvements. State Route 58—East would continue to end at State Route 99 where it would jog to the north to tie into State Route 58—West (Rosedale Highway). The Westside Parkway would be constructed as a local facility, but would not connect to State Route 58, State Route 99, or Interstate 5.

Alternative M would evaluate Transit and Transportation Systems Management (TSM) improvements. TSM focuses on low capital, environmentally-responsive improvements that maximize efficiency of existing facilities. An example of TSM improvements would be providing signal interconnects to facilitate the flow of traffic or providing bus turn-out bays to minimize the interruption of buses along a specific route. Specific transit and TSM measures have not been developed at this point. Preliminary traffic data is required to determine the most effective transit and TSM measures. Once the traffic data is available it would be determined if transit and TSM improvements would be separate alternatives or if it is more effective to evaluate a single alternative that includes both transit and TSM improvements.

It is anticipated that the proposed project may require the following federal permits and approvals: A Biological Opinion from the United States Fish & Wildlife Service, approval of a PM10-PM2.5 Hot Spot Analysis by the Inter-Agency Consultation Committee, an Air Quality Conformity determination from the Federal Highway Administration, Section 401, 402 and 404 permits under the Clean Water Act and a Farmland Conversion Impact Rating for Corridor Type Projects from the United States Soil Conservation Service. Letters describing the proposed action and soliciting comments will be sent to appropriate Federal, State, local and participating agencies. In addition, the following Native American groups have been notified: The Chumash Council of Bakersfield, Kawaiisu Tribe, Kawaiisu Tribe of the Tejon Indian Reservation, Kern Valley Indian Community, Kern Valley Paiute Council, Kawaiisu Band of Kern Valley Indians, Kudzubitcwanap Palap Tribe, Native American Heritage Council of Kern County, Santa Rosa Rancheria—Tachi Yokuts Tribe, Tubatalabals of Kern Valley, Tinoqui—Chalola Council of Kitanemuk and Yowlumne Tejon Indians, Tule River Indian Reservation and the White Blanket Paiute Rancheria. Private organizations and citizens who have previously expressed or are known to have interest in this proposal have also received notification on the project. The environmental scoping process began in March 2008. Public information meetings were held on March 4, 2008, May 22, 2008, July 21, 2008, and August 21, 2008, in Bakersfield, California. Several community focus meetings have been and are continuing to be held in neighborhoods affected by the proposed project alternatives.

A scoping meeting will be held on October 2, 2008. The meeting will be held for agencies from 1 p.m. to 3 p.m. at the Thomas Roads Improvement Program Offices located at 900 Truxtun Avenue, Suite 200, Bakersfield, California. The meeting for the public will be held from 4:30 p.m. to 7:30 p.m. at the Kern County Administrative Offices, in the Building Rotunda located at 1115 Truxtun Avenue, Bakersfield, California to provide additional opportunities for agency and public input on the proposed project. Public notice will be given of the time and place of the meeting.

To ensure that the full range of issues related to this proposed action are addressed and all significant issues identified, comments and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Issued on: September 11, 2008.
Nancy Bobb,
Director, State Programs, Federal Highway Administration, Sacramento, California.

[FR Doc. E8-21933 Filed 9-18-08; 8:45 am]

BILLING CODE 4910-22-P